DEPARTMENT OF AGRICULTURE

Rural Housing Service

[Docket No. RHS-22-MFH-0011]

Consolidated Multifamily Housing Technical Assistance Grant Program Notice of Funding Availability (NOFA) FY 2023

AGENCY: Rural Housing Service, Department of Agriculture (USDA).

ACTION: Consolidated notice of funding availability.

SUMMARY: The Rural Housing Service (RHS or the Agency), a Rural Development (RD) agency of the USDA, announces the availability of funding for Multifamily Housing Nonprofit Transfer Technical Assistance (MFH NP TA) Grants and Off-Farm Labor Housing Technical Assistance (Off-FLH TA) Grants. This funding is available for eligible technical assistance (TA) providers seeking grants to provide technical assistance services to qualified applicants.

DATES: Complete applications must be submitted in electronic format via CloudVault and must be received by noon E.T. on July 3, 2023.

All respondents must email a request to create a shared folder in CloudVault at least three (3) business days prior to the application deadline.

The General Section of this consolidated notice provides the application procedures and requirements that are applicable to both programs in this notice. Program Sections A and B of this notice provide descriptions of the specific programs for which funding is made available and explains any additional procedures and requirements applicable to the specific program. Please be sure to read both the General Section and the Program Sections of this consolidated notice to ensure that all requirements have been responded to and are included with the application.

ADDRESSES: All applications made in response to this notice must be submitted electronically to the RHS Production and Preservation Division, Program Support Branch. Entities submitting more than one application must request separate CloudVault folders for each submission. All email requests must be sent to one of the following addresses: NPTA.RFP@usda.gov for MFH NP TA Grant applications or RD.FLHTA@usda.gov for FLH TA Grant applications.

This grant funding opportunity will also be announced on www.Grants.gov.

FOR FURTHER INFORMATION CONTACT: General questions about this consolidated notice may be directed to Stephanie Vergin, Policy Advisor, Production and Preservation Division, Multi-Family Housing, United States Department of Agriculture; Phone: 651-602-7820; or email at NPTA.RFP@usda.gov or RD.FLHTA@usda.gov.

Persons with disabilities who require alternative means of communication for program information (e.g., Braille, large print, audiotape, American Sign Language, etc.) should contact the responsible Agency or USDA's TARGET Center at (202) 720-2600 (voice and TTY) or contact USDA through the Federal Relay Service at (800) 877-8339.

SUPPLEMENTARY INFORMATION:

Background

This is the first year that MFH is issuing a consolidated notice for its technical assistance grant programs. MFH designed this consolidated notice with the intent to simplify the application process, better coordinate services for applicants, and ensure transparency and predictability in funding cycles. It is the Agency's belief that consolidating the MFH TA notices will avoid duplication of efforts within the communities it serves and better serve its rural stakeholders most in need of these programs. The RHS Production & Preservation Division will host a virtual workshop prior to the application deadline to provide general information and guidance regarding this notice. The workshop will be announced via GovDelivery notice and will also be posted on the MFH Programs website (https://www.rd.usda.gov/programs-services/multi-family-housing-programs). Prospective respondents are encouraged to read this entire notice thoroughly and attend the informational workshop for more information and clarification prior to submitting funding applications.

Organization of the Consolidated Notice

This notice is divided into two major sections, the General Section and Program Sections A-B. The standard forms, certifications, assurances, procedures, and requirements applicable to both technical assistance grant programs are included in the General Section of this notice. Program Sections A-B separately outline each technical assistance grant funding opportunity with program specific eligibility, statutory and regulatory requirements, and include the factors used for scoring and ranking applications, the grant award process, and any additional requirements and/or limitations specific to each program.

Please read both the General Section and Program Sections A-B of this notice carefully to ensure all application and program requirements are met. Not all respondents are eligible to receive awards under both funding opportunities identified within this consolidated notice.

Rural Development Priorities: The Agency encourages respondents to consider projects that will advance the following key priorities:

• Assisting rural communities to recover economically through more and better market opportunities and through improved infrastructure.

• Ensuring all rural residents have equitable access to RD programs and benefits from RD funded projects; and

• Reducing climate pollution and increasing resilience to the impacts of climate change through economic support to rural communities.

For further information, visit https://www.rd.usda.gov/priority-points.

Table of Contents: General Section

A. Program Descriptions

B. Federal Award Information

C. Eligibility Information

D. Application and Submission Information

E. Application Review Information

F. Federal Award Administration Information

G. Federal Awarding Agency Contact

H. Other Information

I. General Section

RHS administers the Multifamily Housing Programs that provide affordable multifamily rental housing in rural areas by financing projects geared for low-income, elderly, and disabled individuals and families as well as domestic farm laborers. The MFH programs extend their reach by guaranteeing loans for affordable rental housing designed for low to moderate-income residents in rural areas and towns. MFH Programs are administered, subject to appropriations, by the USDA as authorized under sections 514, 515, 516 and 521 of the Housing Act of 1949, as amended.

A. Program Descriptions

(1) Purpose of the Programs

The section 515 MFH NP TA Grants are intended to provide technical assistance to multifamily housing borrowers and applicants to facilitate the acquisition of section 515 properties by nonprofit organizations and public housing authorities.

The Off-FLH TA Grants are intended to provide technical assistance to qualified section 514 loan and section 516 grant applicants to encourage the development of domestic and migrant Off-FLH projects.

RHS has a strong interest in broad geographic availability of technical assistance services and expanding the pool of technical assistance providers. Respondents will compete in a national funding pool and multiple awards may be made in a single region. However, if there are qualified and eligible respondents, RHS will prioritize awarding at least one MFH NP TA Grant and one Off-FLH TA Grant in each of the following four geographic regions:

Midwestern Region: IA, IL, IN, KS, MI, MN, MO, ND, NE, OH, SD, WI

Northeastern Region: CT, DE, MA, MD, ME, NH, NJ, NY, PA, RI, VA, VT, WV

Southern Region: AL, AR, FL, GA, KY, LA, MS, NC, OK, PR, SC, TN, TX, VI

Western Region: AK, AZ, CA, CO, HI, ID, MT, NM, NV, OR, UT, WA, WY

Multifamily Housing's four geographic regions may also be found on the following website: https://www.rd.usda.gov/programs-services/all-programs/multi-family-housing-programs.

Each entity applying for funding under this notice, whether individually or jointly, is limited to submission of one grant application per technical assistance program, per geographic region. Entities applying in more than one geographic region must submit separate applications for each region in which they apply. Respondents may propose to serve single-State or multi-State areas within geographic regions.

(2) Statutory and Regulatory Authority

MFH NP TA Grants are authorized under section 764 of the Further Consolidated Appropriations Act, 2020 (Pub. L. 116-94); section 753 of the Consolidated Appropriations Act, 2021 (Pub. L. 116-260); and section 745 of the Consolidated Appropriations Act, 2022 (Pub. L. 117-103), section 745 of the Consolidated Appropriations Act, 2023 (Pub. L. 117-328) and implemented by 7 CFR part 3560.

MFH Off-FLH TA Grants are authorized under section 516(i) of the Housing Act of 1949, as amended; 42 U.S.C. 1486(i); and implemented by 7 CFR part 3560.

To be eligible for funding under this consolidated notice, respondents must meet all statutory and regulatory requirements applicable to the program(s) for which funding is sought. RD program regulations may be found at the following link: https://www.rd.usda.gov/page/regulations-and-guidance.

(3) Definitions and Acronyms

The definitions and acronyms applicable to this notice are published at 7 CFR part 3560.11 https://www.ecfr.gov/current/title-7/subtitle-B/chapter-XXXV/part-3560#3560.11; 7 CFR 15.2 https://www.ecfr.gov/current/title-7/subtitle-A/part-15; 2 CFR part 200 https://www.ecfr.gov/current/title-2/subtitle-A/chapter-II/part-200; and 2 CFR part 400 https://www.ecfr.gov/current/title-2/subtitle-B/chapter-IV/part-400.

The following supplementary definitions and acronyms are applicable to and for the purpose of this notice only.

Applicant—one who submits an application to receive technical assistance services from a technical assistance provider (Grantee), and application means such an application.

Broad-based nonprofit organization (as an Off-FLH loan/grant applicant)—nonprofit organization with a membership that reflects a variety of interests in the market area.

Capacity—demonstrated experience in the areas of federal grant administration and technical assistance program development and delivery.

Co-respondent—a separate legal entity made part of the application process by the primary respondent through a Memorandum of Understanding (MOU) or other agreement who will be accountable to the primary respondent for any federal award funds received.

Conflicts of interest—situations in which an officer, director, board member, agent, employee, or partner of the non-Federal entity being considered for a Federal award, any immediate family member of these parties, or any organization which employs or is about to employ any of these parties, have a competing personal, professional, financial, and/or other interest in activities performed under the Federal award or may receive a tangible personal benefit from activities performed under the Federal award which renders them unable, or gives the appearance of being unable, to be impartial in conducting/administering the Federal award.

Consultant—an individual who provides professional advice or services for a fee, but normally not as an employee of the engaging party. The term “consultant” may also include a firm that provides paid professional advice or services, or independent entities engaged under a grant to provide a specific service or product (product purchase or fee-for-service). They are not employees of the grantee, and no employer-employee relationship exists between the consultant and the grantee.

Contract—for the purpose of Federal financial assistance, a legal instrument by which a recipient or subrecipient purchases property or services needed to carry out the project or program under a federal award.

Contractor—an entity that receives a contract as defined in this section.

Curable deficiency—omission, error, or oversight that, if corrected, would not alter the review and/or scoring of an application in a positive or negative fashion.

Disallowed costs—charges to a federal award that the Federal awarding agency or pass-through entity determines to be unallowable, in accordance with the applicable Federal statutes, regulations, or the terms and conditions of the Federal award.

Expenditures—charges made by a non-Federal entity to a project or program for which a federal award was received.

Federal awarding agency—the Federal agency that provides a Federal award directly to a non-Federal entity.

Federal share—the portion of the Federal award costs that are paid using Federal funds.

Grant Agreement—a legal instrument of financial assistance between a Federal awarding agency or pass-through entity and a non-Federal entity that, consistent with 31 U.S.C. 6302, 6304: (1) Is used to enter into a relationship the principal purpose of which is to transfer anything of value to carry out a public purpose authorized by a law of the United States (see 31 U.S.C. 6101(3)); and not to acquire property or services for the Federal awarding agency or pass-through entity's direct benefit or use; (2) Is distinguished from a cooperative agreement in that it does not provide for substantial involvement of the Federal awarding agency in carrying out the activity contemplated by the Federal award; (3) Does not include an agreement that provides only: (i) Direct United States Government cash assistance to an individual; (ii) A subsidy; (iii) A loan; (vi) A loan guarantee; or (v) Insurance.

Grantee—a legal entity that has been awarded financial assistance under one of the Agency's grant programs and assumes responsibility for fiscal accountability for managing awarded funds, supervision of grant-supported activities, and submission of final reports.

Indirect Costs (facilities & administrative (F&A))—costs incurred for a common or joint purpose benefitting more than one cost objective, and not readily assignable to the cost objectives specifically benefitted, without effort disproportionate to the results achieved. To facilitate equitable distribution of indirect expenses to the cost objectives served, it may be necessary to establish a number of pools of indirect (F&A) costs. Indirect (F&A) cost pools must be distributed to benefitted cost objectives on bases that will produce an equitable result in consideration of relative benefits derived.

Indirect cost rate—a percentage established by a federal department or agency for a grantee organization, which the grantee uses in computing the dollar amount it charges to the grant to reimburse itself for indirect costs incurred in doing the work of the grant project.

Key personnel services—technical assistance service delivery and grant administration.

Market Area—the geographic or locational delineation of the market for a specific project, including outlying areas that will be impacted by the project, i.e., the area in which alternative, similar properties effectively compete with the subject property.

Non-curable deficiency—omission, error, or oversight that, if corrected, would alter the review and/or scoring of the application in a positive or negative fashion.

Non-Federal Entity—a State, local government, Indian tribe, or nonprofit organization that carries out a federal award as a recipient or subrecipient.

Organizational conflicts of interest—situations in which the non-Federal entity being considered for a federal award is unable, or appears to be unable, to be impartial in conducting/administering the Federal award because of its relationship with a parent company, affiliate, subsidiary organization, or other related organization or party.

Period of Performance—the total estimated time interval between the start of the initial grant award and the planned end date.

Primary Respondent (see Respondent)—one who submits an application, request, or plan required to be approved by an Agency as a condition to eligibility for Federal financial assistance, and application means such an application, request, or plan.

Respondent (see Primary Respondent).

Targeted service area—area targeted to receive technical assistance services.

Technical Assistance—technical expertise, information and services provided by eligible entities with the necessary knowledge, experience, and capacity to provide the services outlined in this notice to eligible respondents. Commonly used Acronyms:

CFR Code of Federal Regulation

FLH Farm Labor Housing

MFH Multifamily Housing

NOFA Notice of Funding Availability

NP Nonprofit organization

OMB Office of Management and Budget

PHA Public Housing Authority RD Rural Development

RHS Rural Housing Service

SAM System for Award Management

SOW Statement of Work/Scope of Work

TA Technical Assistance

TDHE Tribally Designated Housing Entity

UEI Unique Entity Identifier USDA United States Department of Agriculture

(4) Application for Awards

Awards under these programs will be made on a competitive basis using specific selection criteria contained in Program Sections A and B of this notice.

The Agency advises all interested parties that expenses incurred in applying for this notice will be borne by and be at the respondent's sole risk.

B. Federal Award Information

Funding Opportunity Title: Consolidated MFH Technical Assistance Grant Program NOFA FY 2023.

Announcement Type: Notice of Funding Availability (NOFA).

Assistance Listing (AL) Numbers:

• Multifamily Housing Nonprofit Transfer Technical Assistance Grants: 10.494.

• Farm Labor Housing Technical Assistance Grants: 10.495.

Funding Opportunity Number: USDA-RD-HCFP-NPTA-OFFFLHTA.

Dates: Complete applications must be submitted in electronic format via CloudVault and must be received by noon E.T. on July 3, 2023. Refer to the DATES section of this notice for further details.

Funding Amounts:

• $6.9 million for MFH NP TA Grants

• $1 million for Off-FLH TA Grants

Available funding amounts for the technical assistance programs in this notice may also be found at the following link: https://www.rd.usda.gov/programs-services/Multifamily-housing-programs.

Type of Award: Technical Assistance Grants.

Award Amounts:

• The minimum and maximum award amounts per funded MFH NP TA Grant application are $100,000 and $500,000, respectively.

• The minimum and maximum award amounts per funded Off-FLH TA Grant application are $50,000 and $250,000, respectively.

Anticipated Award Date: The Agency anticipates making awards 120 days after the application deadline.

Performance Period: 24 months from executed grant agreement.

Renewal or Supplemental Awards: None.

Type of Assistance Instrument: Grant Agreement.

Respondents selected for funding will complete a grant agreement suitable to the Agency, which outlines the terms and conditions of the Grant award. The Agency may request changes to the Statement of Work (SOW) which will be incorporated into the grant agreement. If a selected grantee does not accept the terms of the Agency and/or does not deliver an executed Grant Agreement to the Agency within ten (10) business days after receiving the Grant Agreement with the Agency-approved SOW, the Agency may choose to rescind the award and select another grantee based on scoring without further notice.

The grant period of performance is 24 months with an extension allowed for up to an additional 12 months at the Agency's discretion. However, proposals should be structured to utilize all grant funds within 24 months from the date of the award. The grant term will be defined in the Grant Agreement and will become effective once signed by the Grantee and the Agency. Grant funds will be obligated within ten (10) business days after both parties have executed the Grant Agreement.

C. Eligibility Information

(1) Eligible Respondents

To be considered eligible for funding under this notice, all respondents are required to meet both the general eligibility requirements outlined below, as well as the program specific requirements outlined in Program Sections A and B of this notice.

Except as may be modified in Program Sections A and B of this notice, the general requirements, procedures, and principles outlined below apply to respondents for both funding opportunities contained in this notice.

(a) All respondents will be screened for eligibility to participate in the grant program using Treasury's Do Not Pay Portal in compliance with the Improper Payments Elimination and Recovery Improvement Act.

(b) Debarment and suspension information is required in accordance with 2 CFR 180 (OMB's Guidelines to Agencies on Governmentwide Debarment and Suspension (Nonprocurement) supplemented by 2 CFR 417 (Nonprocurement Debarment and Suspension) if it applies. The section heading is “What information must I provide before entering into a covered transaction with a Federal agency?” located at 2 CFR 180.335. It is part of OMB's Guidance for Grants and Agreements concerning Governmentwide Debarment and Suspension. Respondents are not eligible if they have been debarred or suspended or otherwise excluded from, or ineligible for, participation in Federal assistance programs under 2 CFR parts 180 and 417.

(c) Conflicts of Interest. No Grantee funded under this notice or its officers, directors, board members, agents, employees, or partners can participate in conducting or administering the grant award if a real or apparent conflict of interest exists.

Entities applying for funding under this notice and all funded Grantees must disclose in writing any potential conflicts of interest to the Agency, including situations that would create a conflict of interest, potential for conflict of interest, or any appearance of a conflict of interest. Unless approved by the Agency, Grantees may not provide TA for projects in which they or their third-party affiliates have a direct or indirect ownership interest. Respondents must disclose all MFH projects in which they or their third-party affiliates have a direct or indirect ownership interest.

Unless approved by the Agency, neither the Grantee nor any officer, director, board member or partner of the Grantee may accept or share any compensation or remuneration, directly or indirectly, in any form whatsoever, from or with any party interested in the activities performed under the grant agreement.

Unless approved by the Agency, neither the Grantee nor any officer, director, board member, partner or any person employed by the Grantee may accept compensation or remuneration contrary to the intentions of the grant agreement

Unless approved by the Agency, neither the Grantee nor any officer, director, board member or partner of the Grantee may be involved as an officer, director, board member or general partner in a business venture with an officer, director, board member or general partner of any other party interested in the activities performed under the grant agreement.

Grantees funded under this notice must maintain written standards of conduct governing organizational conflicts of interest and conflicts of interest related to the performance of its officers, directors, board members, agents, and employees in conducting/administering Federal grant awards. The standards of conduct must provide for disciplinary actions to be applied for violations of such standards by the Grantee and its directors, board members, officers, employees, and agents.

(2) Cost Sharing or Matching

There are no cost sharing or matching requirements for either program.

(3) Discretionary Points

Please refer to Program Sections A and B.

(4) Other

Each entity applying for funding under this notice, whether individually or jointly, may submit only one application per program, per geographic region. MFH's geographic regions are listed in the General Section A.1. of this notice.

The use of consultants/contractors for key personnel services (technical assistance service delivery and grant administration) is limited to a maximum of 20% of the total key personnel services budget. This requirement is intended to advance the Agency's goal of increasing the capacity of Agency-funded nonprofit TA providers to deliver technical assistance services directly to recipients.

The total direct and indirect administrative costs associated with the administration of the grant should not exceed 20% of the total technical assistance grant fund.

Any respondent with an open MFH Transfer or Off-FLH technical assistance funding award must demonstrate satisfactory progress toward completion of the work plan identified in their Agency approved grant agreement to be eligible for funding under this notice. In evaluating satisfactory progress, RHS will consider past performance in managing funds including, but not limited to, the ability to account for funds appropriately; timely use of funds received from RHS; meeting performance targets for completion of activities; and receipt of promised matching or leveraged funds.

D. Application and Submission Information

(1) Content and Form of Application Submissions

Applications to this notice must be submitted electronically via CloudVault using the process described below. The electronic application submission process may also be viewed at www.grants.gov.

(a) All applications made in response to this notice must be submitted electronically to the RHS Production and Preservation Division, Program Support Branch using the following process: All respondents must email a request to create a shared folder in CloudVault at least three (3) business days prior to the application deadline of July 3, 2023. Entities submitting more than one application must request separate CloudVault folders for each submission. All email requests must be sent to one of the following addresses: NPTA.RFP@usda.gov for MFH NP TA Grant applications or RD.FLHTA@usda.gov for FLH TA Grant applications. Email requests for CloudVault folders should contain the following information (at minimum):

(1) Subject line: TA Grant Application CloudVault Folder Request.

(2) Body of email: Respondent Name and Complete Contact Information.

(3) Request language: Please create a shared CloudVault folder for MFH NP TA Grant application or Off-FLH TA Grant application.

A shared CloudVault folder will be created within two (2) business days from the date the emailed request is received by RHS. An email will be sent to the respondent's valid submission email address with a link to the created shared CloudVault folder. All required application documents in accordance with this notice must be uploaded into the respondent's shared CloudVault folder. Respondent's access to the shared CloudVault folder will be removed when the submission deadline is reached. Any document(s) uploaded to CloudVault after the application deadline will not be considered. The Agency will provide responding entities with a written acknowledgement of receipt upon request. Please note: CloudVault is a USDA‐approved cloud‐based file sharing and synchronization system. CloudVault folders are not suitable nor intended for file storage due to agency file retention policies and space limitations. Therefore, the agency will remove all application-related files stored in shared CloudVault folders the latter of either 180 days from the application date, or once the application has been processed and the transaction has been closed.

(b) Forms, Requirements and Procedures for all Respondents.

All respondents are required to electronically submit signed copies of the standard forms, certifications, and assurances listed in this section, unless the requirements in the Program Section specify otherwise. All forms should be completed in their entirety using the most current versions of unexpired Rural Development or OMB-approved forms. All application packages must include a Table of Contents and a separate one-page sheet listing each of the Scoring Criteria from Program Sections A or B, followed by the page numbers of all relevant material and documentation contained within the submitted application materials to support those criteria.

(i) Except as may be modified in the Program Sections A and B, the forms and standard certifications and assurances required for all respondents are:

• SF-424, “Application for Federal Assistance” which can be obtained at: https://www.grants.gov/.

• Standard Form 424A, “Budget Information-Non-Construction Programs” which can be obtained at: https://www.grants.gov/.

• Negotiated Indirect Cost Rate Agreement (NICRA), if applicable, or a statement certifying the entity's election to charge the de minimis rate of 10% of the modified total direct costs (MTDC).

• Form SF-LLL, “Disclosure Form to Report Lobbying,” if applicable, or a statement certifying that the organization does not lobby.

• Form RD 3560-30, “Certification of no Identity of Interest (IOI),” if applicable: http://forms.sc.egov.usda.gov/efcommon/eFileServices/eForms/RD3560-30.PDF.

• Form RD 3560-31, “Identity of Interest Disclosure/Qualification Certification” if applicable (IOI is defined in 7 CFR 3560.11): http://forms.sc.egov.usda.gov/efcommon/eFileServices/eForms/RD3560-31.PDF.

• Form RD 400-4, “Assurance Agreement”: http://forms.sc.egov.usda.gov/efcommon/eFileServices/eForms/RD400-4.PDF.

• Form RD 400-6, “Compliance Statement”: https://forms.sc.egov.usda.gov/eForms/searchAction.do?pageAction=BrowseForms&_MenuAction=Yes.

(ii) All responding entities must include organizational status documents and current (within six months of this notice's deadline date) financial statements to evidence their status as a properly organized private or public nonprofit agency, or public/tribal housing authority, with the financial ability to carry out the approved objectives of the TA grant program under which funding is sought. This requirement includes (at minimum):

(A) Status (i.e., Articles of Incorporation) as a NP or PHA.

(B) Good standing within the State or Tribe in which the entity is organized.

(C) Legal authority to provide services stated in the application under the applicable laws for the state(s) in which operation is proposed. (Examples of acceptable documentation for this requirement include, but are not limited to, bylaws, organizational charters, and statutes or regulations).

(D) Certification of no current or unresolved default or violation of any other Federal, Tribal, State, or local grant or loan agreement(s).

(E) The requirements above will also apply to all entities performing services on behalf of the respondent.

(2) System for Award Management and Unique Entity Identifier

(a) At the time of application, each respondent must have an active registration in the System for Award Management (SAM) before submitting its application in accordance with 2 CFR 25. In order to register in SAM, entities will be required to obtain a Unique Entity Identifier (UEI). Instructions for obtaining the UEI are available at https://sam.gov/content/entity-registration.

(b) Respondent must maintain an active SAM registration, with current, accurate and complete information, at all times during which it has an active Federal award or an application under consideration by a Federal awarding agency.

(c) Respondent must complete the Financial Assistance General Certifications and Representations in SAM.

(d) Respondent must provide a valid UEI in its application, unless determined exempt under 2 CFR 25.110.

(e) The Agency will not make an award until the respondent has complied with all SAM requirements including providing the UEI. If a respondent has not fully complied with the requirements by the time the Agency is ready to make an award, the Agency may determine that the respondent is not qualified to receive a Federal award and use that determination as a basis for making a Federal award to another respondent.

(3) Submission Dates and Times

Submission dates and times can be found in the DATES section of this notice.

(4) Intergovernmental Review

Applications under this notice are not subject to Executive Order 12372, “Intergovernmental Review of Federal Programs.”

(5) Funding Restrictions

Refer to Program Sections A and B for Ineligible Grant Fund Purposes/Costs.

E. Application Review Information

(1) Application Review Criteria

To be eligible for funding under this notice, respondents must meet the criteria set forth in the individual program Sections A and B of this notice, as well as all general eligibility criteria as follows:

a. The application must be complete as specified by this notice;

b. The complete application must be received by the submission deadline specified in this notice;

c. The application proposal must be for authorized purposes; and

d. The respondent must be an eligible entity and must not currently be debarred, suspended, or delinquent on any Federal debt.

No application will be accepted after the specified deadline unless the date and time is extended by another notice published in the Federal Register. Applications will first be reviewed to determine if they meet the eligibility requirements outlined in this notice. If all eligibility requirements are met, applications will then be reviewed for completeness. If the Agency determines that any application is ineligible or incomplete, application processing will be discontinued, which means the application will be rejected and returned to the respondent without being scored.

RHS may contact respondents to clarify items and/or to correct curable (correctable) technical deficiencies identified within application packages after the application deadline is reached. RHS will notify respondents of any curable deficiencies and will do so on a uniform basis for all respondents. If deficiencies are not corrected within the period prescribed by RHS, the application will be rejected as incomplete, and will not be considered for funding.

Only applications meeting all the general eligibility criteria above will be scored and ranked. RHS will consider the scoring factors outlined in Program Sections A and B to score and rank application(s) for each TA program respectively. Points will be awarded only for factors that are well-documented in the application package and, in the opinion of the Agency, meet the objectives outlined in each of the evaluation criteria. References to external websites, publications, and/or other information not submitted as part of the application package will not be reviewed or considered. Therefore, full documentation and support of all criteria is recommended and encouraged.

Risk Review: The Agency may request additional documentation from selected respondents in order to evaluate the financial, management, and performance risk posed by awardees as required by 2 CFR 200.206. Based on the risk review, the Agency may apply special conditions that correspond to the degree of risk assessed, either pre-award or post-award.

If the Agency determines it is unable to select an application for funding, the respondent will be informed in writing. Such notification will include the reasons the respondent was not selected. The Agency will advise respondents whose applications do not meet eligibility and/or selection criteria of their review rights or appeal rights in accordance with 7 CFR part 11.

(2) Review and Selection Process

Refer to Program Sections A and B for program specific application reviewing, scoring and selection processes.

F. Federal Award Administration Information

(1) Federal Award Notice

The Agency will notify in writing respondents whose applications have been selected for funding. At the time of notification, the Agency will advise respondents what additional information and documentation is required along with a timeline for submitting the additional information.

(2) Administrative and National Policy Requirements

The following additional requirements apply to grantees selected for these TA Grant program awards:

(i) Grantees must complete Form RD 1942-46 “Letter of Intent to Meet Conditions.”

(ii) Grantees must complete Form RD 1940-1, “Request for Obligation of Funds.”

(iii) Grantees must use Form SF 270, “Request for Advance or Reimbursement,” to request reimbursements and provide receipts for expenditures, timesheets, and any other documentation to support the request for reimbursement, as determined by the Agency.

(iv) Grantees must maintain a financial management system that is acceptable to the Agency.

(v) Grantees must certify that the U.S. has not obtained an outstanding judgment against their organization in a Federal Court (other than in the United States Tax Court).

(vi) Awards made under this notice are subject to the provisions contained in the Consolidated Appropriations Act, 2021 (Pub. L. 116-260) Division E, Title VII sections 744 and 745 regarding felony convictions and corporate Federal tax delinquencies.

(vii) Workplace identification is required under the drug-free workplace requirements in 2 CFR 182, which provides guidance on the portion of the Drug-Free Workplace Act applicable to grants, as adopted by 2 CFR 421. Therefore, grantees must identify all organizational known workplaces by including the actual physical addresses of buildings (or parts of buildings) or other sites where work under the award takes place.

(viii) 2 CFR part 182 (Governmentwide Requirements for Drug-Free Workplace (Financial Assistance)) and 2 CFR part 421 (Requirements for Drug Free Workplace (Financial Assistance).

(3) Reporting

(i) Grantees must comply with reporting requirements of and 2 CFR part 200, and will provide the required financial status and project performance reports for the period after grant approval and throughout the grant period of performance as outlined in the Agency approved grant agreement.

(ii) Grantees must maintain records to document all activities and expenditures utilizing technical assistance grant funds. Receipts for expenditures will be included in this documentation.

(iii) Grantees must provide a final project performance report as outlined in the Agency approved grant agreement.

G. Federal Awarding Agency Contact(s)

Stephanie Vergin, Policy Advisor, Production and Preservation Division, Multi-Family Housing, United States Department of Agriculture at NPTA.RFP@usda.gov or RD.FLHTA@usda.gov.

H. Other Information

1. Paperwork Reduction Act

In accordance with the Paperwork Reduction Act of 1995, (44 U.S.C. 3501 et seq.), OMB must approve all “collection of information” as defined at 42 U.S.C. 3504. In accordance with the Paperwork Reduction Act of 1995, the information collection reporting and recordkeeping requirements as covered in this notice, are exempt because the requirements are not imposed on 10 or more people, as defined at 44 U.S.C. 3502(3)(A)(i)).

RHS has concluded that the reporting requirements contained in this NOFA will involve less than 10 persons and do not require approval under the provisions of the Act.

2. National Environmental Policy Act

In accordance with the National Environmental Policy Act of 1969, Public Law 91-190, this funding announcement has been reviewed in accordance with 7 CFR part 1970 (Environmental Policies and Procedures). As permitted by 7 CFR 1970.51(b), The Agency has determined that because:

• this action meets the criteria established in 7 CFR 1970.53(f);

• no “extraordinary circumstances exist” as defined at 7 CFR 1970.52(a); and

• the action is not “connected” (see 40 CFR 1508.25(a)(1)) to other actions with potentially significant impacts, is not considered a “cumulative action” and;

• the action is not precluded by 40 CFR 1506.1.

Therefore, the Agency has determined that the action does not have a significant effect on the human environment, and therefore neither an Environmental Assessment nor an Environmental Impact Statement is required. All recipients under this notice are subject to the requirements of 7 CFR part 1970.

For Non-Construction Programs Under the National Environmental Policy Act (NEPA)

Technical assistance awards for financial and technical assistance under this notice are classified as a Categorical Exclusion according to 7 CFR 1970.53(b), and usually do not require any additional documentation. MFH will review each grant application to determine its compliance with 7 CFR 1970. The respondent may be asked to provide additional information or documentation to MFH with this determination.

3. Federal Funding Accountability and Transparency Act

All respondents, in accordance with 2 CFR part 25 (https://www.ecfr.gov/current/title-2/part-25), must be registered in SAM and have a UEI number as stated in Section D.2. of this notice. All recipients of Federal financial assistance are required to report information about first-tier subawards and executive total compensation in accordance with 2 CFR part 170 (https://www.ecfr.gov/current/title-2/part-170).

4. Civil Rights Act

All grants made under this notice are subject to Title VI of the Civil Rights Act of 1964 as required by the USDA (7 CFR part 15, subpart A (eCFR :: 7 CFR part 15 Subpart A—Nondiscrimination in Federally-Assisted Programs of the Department of Agriculture—Effectuation of Title VI of the Civil Rights Act of 1964) and section 504 of the Rehabilitation Act of 1973, Title VIII of the Civil Rights Act of 1968, Title IX of the Education Amendments of 1972, Executive Order 13166 (Limited English Proficiency), Executive Order 11246, the Equal Credit Opportunity Act of 1974, the Americans with Disabilities Act (ADA) of 1990, the Age Discrimination Act of 1975, Executive Order 12250, and 7 CFR part 1901, subpart E.

(i) All respondents must certify to compliance with 7 CFR part 15, subpart A—Nondiscrimination in Federally Assisted Programs of the Department of Agriculture—Effectuation of Title VI of the Civil Rights Act of 1964, by completing the Financial Assistance General Certification and Representations in SAM.

Civil Rights compliance includes, but is not limited to the following:

(a) Collecting and maintaining data provided by ultimate recipients on race, sex, and national origin.

(b) Collection of race and ethnicity data in accordance with Office of Management and Budget (OMB) Federal Register notice, “Revisions to the Standards for the Classification of Federal Data on Race and Ethnicity” (published October 30, 1997 at 62 FR 58782). Sex data will be collected in accordance with Title IX of the Education Amendments of 1972.

This data should not be submitted with the application but should be available upon request by the Agency.

5. USDA Nondiscrimination Statement

In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.usda.gov/oascr/, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

II. Program Sections

Organization of the Program Sections

Program Sections A and B of this notice provide descriptions for both of the specific programs. In addition to the requirements set forth in the General section, the following program sections outline additional procedures and requirements applicable to each program.

Both funding opportunities contained in this consolidated notice are identified in the following chart entitled Consolidated Multifamily Housing Technical Assistance Grant Program Funding Chart FY 2023. This chart includes Program Name, the Assistance Listing Number for each program, the Funding Amounts Available, and the Program Section Reference for program-specific application requirements.

Consolidated Multifamily Housing Technical Assistance Grant Program Funding Chart
[FY 2023]
TA program name | Assistance listing No. | Funding available (million) | Program section reference
Multifamily Housing Nonprofit Transfer Technical Assistance Grants | 10.494 | $6.9 | A
Off-Farm Labor Housing Technical Assistance Grants | 10.495 | 1 | B

Program Section A

Multifamily Housing Nonprofit Transfer Technical Assistance Grants

Table of Contents

A. Program Description

B. Federal Award Information

C. Eligibility Information

D. Application and Submission Information

E. Application Review Information

A. Program Description

The technical assistance (TA) grants offered under this funding opportunity are for the purpose of facilitating the transfer and preservation of existing Rural Rental Housing properties under section 515 of the Housing Act of 1949, as amended (42 U.S.C. 1485). Agency regulations for the section 515 program are published at 7 CFR part 3560. The Agency is authorized to utilize the appropriations from each fiscal year, for a total appropriation of $6.9 million, to provide grants to NPs and PHAs meeting the qualification standards of this Notice, who will then provide technical assistance, including financial and legal services, to MFH borrowers to facilitate the acquisition of section 515 MFH properties by nonprofit organizations and public housing authorities. Public Law 116-94 Sec. 764; Public Law 116-260, Sec. 753, Public Law 117-328, Sec. 745 and Public Law 117-103, Sec. 745. These grants must be provided in areas where the USDA Secretary determines there is a risk of loss of affordable housing in order to keep such properties in the MFH program. Risk of loss of affordable housing may be driven by market conditions or may be due to property-specific factors, including mortgages reaching maturity, owner ability to prepay existing Agency loans, poor physical condition of the property, or failing ownership.

B. Federal Award Information

Type of Award: Grant.

Fiscal Year (FY) Funds: 2020, 2021, 2022 and 2023.

Award Amounts: $6.9 million for MFH Nonprofit Transfer TA Grants.

C. Eligibility Information

(1) Eligible Respondents

Eligibility for MFH Nonprofit Transfer Technical Assistance Grants is limited to private and public nonprofit organizations and public housing authorities meeting the qualification requirements of this Notice. Potentially qualifying NPs and PHAs include tribally designated housing entities (TDHE) and Tribal housing NPs.

Eligible entities responding to this notice must have the knowledge, ability, technical expertise, practical experience, and capacity necessary to develop and package section 515 property transfer transactions. They must also demonstrate the ability to provide technical assistance to NPs and/or PHAs to facilitate their acquisition of section 515 properties. In addition, all eligible entities must demonstrate the ability to exercise leadership, organize work, and prioritize assignments to meet work demands in a cost-efficient and timely manner within the 24-month grant term.

(2) Eligible Grant Activities

Grantees awarded under this notice are expected to provide technical assistance services to NPs and/or PHAs who are acquiring section 515 projects in order to increase TA recipients' capacity (knowledge, skills, and abilities) in the following areas: Locating potential section 515 properties for transfer; completing the transfer analysis, negotiation, application, underwriting, and closing processes; and identifying and securing funding from the Agency and/or other sources for the purpose of acquisition, repair and/or rehabilitation.

(3) Eligible Costs

Costs will be limited to those allowed under 2 CFR 200. Grantees may, with Agency concurrence and approval, utilize MFH NP TA grant funds for the following purposes: Soft costs such as financial analysis, transaction structuring analysis and completion of other transaction details such as Capital Needs Assessments, appraisals, and market surveys or other consultation, advisory and non-construction services required as part of the application process. Grantees may request Agency approval on a case-by-case basis for costs not included in the list.

(4) Ineligible Purposes/Costs

In addition to costs identified as unallowable by 2 CFR parts 200 and 400, grant funds cannot be used for the following:

(a) Grant funds cannot be used by the grantee for activities that are not directly related to preservation transactions (such as conferences, sponsorships, provider personnel education/training, etc.).

(b) Grant funds cannot be used by the grantee for activities or transactions in which they have any direct or indirect ownership interest (regardless of whether it is an interest as a current or prospective owner).

(c) Grant funds cannot be used to reimburse grantees for technical assistance services provided to another nonprofit or public body applicant in the development and packaging of its loan/grant docket and project when those applicant entities have requested reimbursement for technical assistance expenses as part of their total project development cost (See 7 CFR 3560.553(c) and 7 CFR part 3560.53(o)(3)). Duplication of service costs is not allowed.

(d) Grant funds cannot be used when an identity of interest exists between the technical assistance provider (or any third-party entity acting on their behalf) and the loan/grant applicant. Identity of interest is defined in 7 CFR 3560.11.

(e) Grant funds cannot be used for building materials, labor costs, or expenditures otherwise typically included as any hard costs for actual construction or repairs, prepayment, interest, or principal payments.

D. Application and Submission Information

(1) Electronic Application Submissions

All materials must be submitted via CloudVault. The process for submitting electronic application packages to the Agency via CloudVault is outlined above in the General Section of this notice.

(2) Content and Form of Application Submissions

In addition to the forms, certifications and assurances required of all respondents as outlined in the General Section of this notice, complete application packages for the MFH NP TA Grant must also contain a written grant proposal that includes the following required information:

(a) Summary page, which must include the following:

a. Responding entity's name, address, telephone number, and complete contact information for the entity's main point of contact;

b. Responding entity's Taxpayer Identification Number;

c. Grant Amount requested;

d. The State(s), area(s), and/or geographic region for which the application is being submitted; and

e. Responding entity's Unique Entity Identifier (UEI) number required for registration in the System for Award Management (SAM) prior to submitting an application pursuant to 2 CFR 25.200(b).

(b) Organizational Expertise and Experience Capabilities Statement. Responding entities must provide a capabilities statement describing their knowledge, demonstrated ability, practical experience, and capacity to develop and package section 515 property transfer transactions. They must also describe their ability to provide technical assistance to NPs and/or PHAs to facilitate the acquisition, repair, and rehabilitation of section 515 MFH properties. In addition, respondents must demonstrate the ability to exercise leadership, organize work, and prioritize assignments to meet work demands in a cost-efficient and timely manner within the 24-month grant term. If the respondent intends to have other entities working on its behalf, those entities must be identified and their abilities to meet the stated eligibility requirements and experience in delivering approved technical assistance services must also be addressed.

(c) Narrative. The responding entity must include a written narrative describing its knowledge, demonstrated ability, and practical experience in completing transfers of section 515 properties and/or providing training and technical assistance to NPs and PHAs for the transfer and rehabilitation of section 515 properties. If the responding entity intends to have other entities working on its behalf, the narrative must identify those entities and address their ability to meet the stated eligibility requirements and experience in delivering approved technical assistance services.

Respondents must identify section 515 transfer transactions completed by the applicant and/or organizations to whom the responding entity and/or other entities working on its behalf has provided technical assistance on applications for the transfer of section 515 projects in the last five years. For the projects and applications noted above, the respondent must provide the section 515 property name and location (city and state), technical assistance recipient organizational name and location (city and state), source of technical assistance funding, and outcome of the transaction (i.e., no ownership change, transaction in process, transfer completed).

(d) Key Personnel and Staffing Plan. Proposals must include the resumes of all staff personnel that will perform key personnel services of (1) delivery of technical assistance and (2) administration of the grant. (Capital Needs Assessments (CNAs), appraisals, and market surveys are not considered to be key personnel services). The staffing plan must describe each staff member's ability to perform the proposed activities and/or their experience in successfully managing service delivery of TA grants. The plan must include a staffing chart complete with name, job title, salary, hours, timelines, and descriptions of all proposed employee duties that will achieve the objectives of the grant program. If respondents intend to contract for any key personnel services from outside their organization (not to exceed the 20% limit), the qualifications of all entities acting on behalf of respondents must also be addressed.

(e) Statement of Work (SOW)/Work Plan. Responding entities must submit a detailed SOW that includes the following requirements:

a. Introduction/overview with a description of the organization's proposed plan to provide technical assistance to NPs and PHAs in the acquisition of section 515 properties.

b. The organization's capabilities to execute the proposed plan within the prescribed 24-month grant term.

c. The organization's plan to identify potential sellers of section 515 properties.

d. The organization's plan to identify and provide services to NPs and PHAs interested in acquiring these properties.

e. Types of proposed technical assistance and legal and/or financial services that will enable NPs and/or PHAs to submit successful transfer applications to the Agency within the prescribed 24-month grant term. Clearly explain the services to be provided directly by the respondent's organization and all services that will be provided by third parties. The responding entity must specify the State(s), area(s), and/or geographic region in which they and any proposed third-party subrecipients/contractors/consultants will offer technical assistance services. Respondents must also explain why each targeted service area and/or property is at risk of loss of affordable housing.

f. The organization's experience in identifying and successfully assisting entities in the acquisition, repair, and rehabilitation of section 515 MFH properties.

g. A detailed budget justification that aligns with the key project tasks/activities and a grant funds usage projection that corresponds with a 24-month timeline for service delivery. The grant funds usage projection should illustrate direct and indirect administrative costs in dollars, and as a percentage of the technical assistance services provided (not to exceed 20%).

h. Additional strengths, qualifications, or capabilities not included above that enhance the respondent's capacity to deliver services under this grant.

i. Current working agreements or contracts between the respondent and any entity performing services on its behalf must be submitted as part of the application package and any associated costs must be included in the responding entity's budget.

E. Application Review Information

All application packages will be reviewed to determine eligibility and completeness. All eligible, complete applications will be evaluated and competitively scored using the Application Scoring Criteria outlined below. Points will be awarded only for factors that are well-documented in the application package and, in the opinion of the Agency, meet the objectives outlined in each of the evaluation criteria. References to external websites, publications and/or other information not submitted as part of the application package will not be reviewed. Therefore, full documentation and support of all criteria is encouraged.

The review process designed for this notice will evaluate the degree to which the application sets forth measurable, realistic objectives that are consistent with this notice and can be completed within a 24-month grant period consistent with the application and processing guidance established by Agency transfer regulations.

Application Scoring Criteria (Points Can Be Earned in All Sections)

1. Respondent Experience (RHS Section 515)

a. Respondent has successful, verifiable experience completing section 515 transfers during the past five years. Experience must be demonstrated by submitting a list of past 515 project transfers as described in this Notice. To receive points, the respondent must have acted as the developer or technical assistance provider for the project and the transfers must be completed or there must be a submitted transfer application currently pending approval and/or closing with the Agency:

• 1-2 section 515 project transfers: 10 points

• 3-5 section 515 project transfers: 20 points

• 6-8 section 515 project transfers: 30 points

• 9 or more section 515 project transfers: 40 points

b. Respondent has successful, verifiable experience providing technical assistance that has increased the capacity of NPs and/or PHAs to complete section 515 transfers. Experience must be demonstrated by submitting a list of past instances providing technical assistance as described in this Notice. Points will be awarded according to the number of NP and/or PHA clients to whom the respondent has provided section 515 technical assistance services during the past five years:

• 1-4 section 515 technical assistance clients: 10 points

• 5-8 section 515 technical assistance clients: 20 points

• 9 or more section 515 technical assistance clients: 30 points

2. Respondent Experience (Other Affordable Multifamily Housing Programs)

a. Respondent has successful, verifiable experience completing other affordable MFH project transfers during the past five years. Experience must be demonstrated by submitting a list of other affordable housing (non 515) past project transfers as described in this Notice. To receive points, the respondent must have acted as the developer or technical assistance provider for the project and projects must have been completed or have at a minimum obtained funding approval:

• 1-2 affordable housing project transfers: 5 points

• 3-5 affordable housing project transfers: 10 points

• 6-8 affordable housing project transfers: 15 points

• 9 or more affordable housing project transfers: 20 points

b. Respondent has successful, verifiable experience providing technical assistance that has increased the capacity of NPs and/or PHAs to complete affordable MFH project transfers. Experience must be demonstrated by submitting a list of past instances of providing technical assistance as described in this Notice. Points will be awarded according to the number of NP and/or PHA clients to whom the respondent has provided affordable MFH project technical assistance during the past five years:

• 1-4 affordable housing project clients: 5 points

• 5-8 affordable housing project clients: 10 points

• 9 or more affordable housing project clients: 15 points

3. Proposed Outcomes

a. Respondent uses technical assistance resources to maximize the number of section 515 projects assisted with grant funding. Scoring is based on the Statement of Work/Work Plan. Points will be awarded according to the number of projects to be assisted under the grant:

• 1-5 projects: 5 points

• 6-10 projects: 10 points

• 11 or more projects: 15 points

b. Respondent uses technical assistance resources to increase the capacity of NPs and PHAs to complete transfers of section 515 properties. Scoring is based on the Statement of Work/Work Plan. Points will be awarded according to the number of NPs or PHAs to be served under the grant:

• 1-3 NPs/PHAs: 5 points

• 4-6 NPs/PHAs: 10 points

• 7 or more NPs/PHAs: 15 points

4. Grant Administration

a. Respondent uses grant resources to maximize the funding available for direct program delivery to TA recipients. Points will be awarded according to the administrative costs as a percentage of grant funds used (not to exceed 20%):

• Administrative costs 10% to 20%: 5 points

• Administrative costs less than 10%: 10 points

b. Respondent has successful, verifiable experience managing service delivery or technical assistance through the grant lifecycle during the past five years. Experience must be demonstrated by submitting a list of past instances of managing service delivery or providing technical assistance as described in this Notice. Experience considered for scoring purposes includes submitting timely requests for funding, meeting reporting requirements, and closing out awards. Points will be awarded according to the degree of experience:

• Previous experience as described with 1-4 grants: 5 points

• Previous experience as described with 5 or more grants: 10 points

5. Multifamily Housing Program Delivery Goals. All applications meeting the minimum scoring requirement of 50 points may be eligible for up to 15 additional points for proposals that offer TA services to support the MFH program delivery goals outlined in a. and b. below.

a. Geographic coverage (up to 10 points): The respondent proposes to serve a geographic area that is underserved by other technical assistance providers or proposes to serve areas with a significant number of properties in need of preservation, as identified by the respondent and verified by the Agency.

b. Innovative TA service delivery models (up to 5 points). The agency seeks to test a range of TA delivery models to assess the methods of TA delivery that are most effective to facilitate preservation; therefore, points may be awarded for respondents proposing a TA service delivery model that is different from other proposed models.

6. Administrator Discretionary Points: Respondents that meet the minimum scoring requirement may be considered for up to 15 discretionary scoring points (5 points for each category) as determined by the Administrator, which advance any or all of the Agency's three key funding priorities, provided that all other requirements set forth in this notice are otherwise met. The three key priorities are:

(i) Market Opportunities (up to 5 points): Priority points may be awarded if the project is located in or serving one of the top 10% of counties or county equivalents based upon county risk score in the United States. Information on whether your project qualifies for priority points can be found at the following website: https://www.rd.usda.gov/priority-points.

(ii) Equity (up to 5 points): Priority points may be awarded if the project is located in or serving a community with score 0.75 or above on the CDC Social Vulnerability Index. Information on whether your project qualifies for priority points can be found at the following website: https://www.rd.usda.gov/priority-points.

(iii) Climate Impacts (up to 5 points): Priority points may be awarded if the project is located in or serving coal, oil and gas, and power plant communities whose economic well-being ranks in the most distressed tier of the Distressed Communities Index. Information on whether your project qualifies for priority points can be found at the following website: https://www.rd.usda.gov/priority-points.

The minimum score requirement for grants awarded under this funding opportunity is 50 points. Final scores are determined by the Agency. The Agency reserves the right to withhold the awarding of funds for applications that fail to meet the minimum required final score. Meeting the minimum scoring requirement and/or receiving priority funding points or discretionary points from the Administrator does not guarantee a funding award.

The Agency will notify all responding entities whether their application has been accepted or rejected and provide appeal rights under 7 CFR part 11, as appropriate.

Program Section B

Off-Farm Labor Housing Technical Assistance Grant Program

Table of Contents

A. Program Description

B. Federal Award Information

C. Eligibility Information

D. Application and Submission Information

E. Application Review Information

A. Program Description

The technical assistance grants authorized under this funding opportunity are for the purpose of encouraging off-farm labor housing development under section 516(i) of the Housing Act of 1949, as amended; (42 U.S.C. 1486(i)). RHS regulations for section 514 and section 516 Off-FLH programs and provisions for FLH technical assistance grants are published at 7 CFR part 3560, subpart L. Off-FLH grants are authorized under section 516(i) of the Housing Act of 1949, as amended, 42 U.S.C. 1486(i), and implemented by 7 CFR part 3560.

The primary objective of this funding opportunity is to improve the overall quality of section 514 Off-FLH loan and section 516 Off-FLH grant application packages submitted to the Agency for funding consideration in areas determined to have unmet need and unsatisfied market demand for new off-farm labor housing development.

Eligible entities responding to this notice are expected to have knowledge, experience, and expertise in farm labor housing development, federal grant administration, and technical assistance program development, implementation, and delivery. In addition, eligible entities must possess the ability to exercise leadership, organize work, and prioritize assignments to meet work demands in a timely and cost-efficient manner within a 24-month grant performance period.

B. Federal Award Information

Type of Award: Grant.

Fiscal Year (FY) Funds: 2023.

Award Amounts: $1 million.

C. Eligibility Information

(1) Respondent Eligibility

Eligibility for Off-FLH Technical Assistance Grants is limited to qualified nonprofit organizations. Nonprofit organizations must meet the definition of nonprofit organization in 7 CFR 3560.11. Potentially qualifying nonprofit organizations include tribal housing nonprofits.

(2) Eligible Grant Activities

The primary work permitted under these Off-FLH TA grant awards will focus on eligible nonprofit organizations delivering direct technical assistance advisory services to qualified Off-FLH loan/grant applicant groups and organizations who lack the knowledge, experience and/or capacity to develop, package, and submit their own loan and grant dockets to the Agency for funding consideration.

Qualified applicants for section 514 loans and section 516 grants may include broad-based nonprofit organizations, nonprofit organizations of farmworkers, federally recognized Indian tribes, community organizations, agencies or political subdivisions of State, Tribal or local Governments (such as housing authorities), and other eligible FLH organizations.

Off-Farm labor housing may be constructed in either urban or rural areas if need and demand for such housing is supported. However, respondents should concentrate their proposed grant activities in areas identified as having unmet need and unsatisfied market demand for new Off-FLH construction projects, as identified by the respondent and verified by the Agency.

(3) Eligible Costs

Costs will be limited to those allowed under 2 CFR part 200. Grantees may, with Agency concurrence and approval, utilize Off-FLH TA grant funds for the following purposes: Conducting targeted outreach efforts to inform and recruit potential Off-FLH applicants; providing advisory services to eligible Off-FLH applicants for conducting site searches, estimating construction costs, resolving planning, and zoning issues, and negotiating and executing property acquisitions; assisting applicants during the application development, packaging, submission, underwriting and closing processes; and for other transaction details that are considered part of the application process, such as financial analyses, Capital Needs Assessments (CNAs), appraisals, market surveys/studies, and other consultation, advisory and non-construction services. Grantees may request Agency approval on a case-by-case basis for costs not included in the list.

Grantees may also on a case-by-case basis and, with advance approval by the Agency, provide technical assistance to entities approved for Off-FLH funding during the construction and rent-up/lease-up phases of development, and provide training to Agency-funded Off-FLH projects to support successful long-term management of Off-FLH properties.

(4) Ineligible Purposes/Costs

In addition to costs identified as unallowable by 2 CFR parts 200 and 400, grant funds cannot be used for the following: (a) Construction (in any form) including building materials, labor, and costs or expenditures otherwise typically included as hard costs for actual construction.

(b) To reimburse grantees for technical assistance services provided to another nonprofit or public body applicant in the development and packaging of its loan/grant docket and project when those applicant entities have requested reimbursement for technical assistance expenses as part of their total project development cost (See 7 CFR 3560.553(c) and 7 CFR part 3560.53(o)(3) (Duplication of service costs is not allowed).

(c) In counties with Agency-financed Off-FLH properties currently operating under a “diminished need” occupancy waiver (7 CFR 3560.576(e)), which are listed on RD's website at https://www.rd.usda.gov/programs-services/multifamily-housing-programs/farm-labor-housing-technical-assistance-grants#to-apply.

(d) When an identity of interest exists between the technical assistance provider (or any third-party entity acting on their behalf) and the loan/grant applicant. Identity of interest is defined in 7 CFR 3560.11.

D. Application and Submission Information

(1) Electronic Application Submissions

All materials must be submitted via CloudVault. The process for submitting electronic application packages to the Agency via CloudVault is outlined above in the General Section of this notice.

(2) Content and Format of Application Packages

In addition to the forms, certifications and assurances required of all respondents as outlined in the General Section of this notice, complete application packages for the Off-FLH TA Grant must also contain a written grant proposal that includes the following required information:

(a) Summary page, which must include the following:

1. Responding entity's name, address, telephone number, and complete contact information for the entity's main point of contact;

2. Responding entity's Taxpayer Identification Number;

3. Grant Amount requested;

4. The State(s), area(s), and/or geographic region for which the application is being submitted; and

5. Responding entity's Unique Entity Identifier (UEI) number required for registration in the System for Award Management (SAM) prior to submitting an application pursuant to 2 CFR 25.200(b).

(b) Organizational Expertise and Experience Capabilities Statement. The responding entity must provide a capabilities statement describing overall organizational knowledge, demonstrated ability, and practical experience in developing, packaging, and submitting section 514/516 transactions for Agency funding consideration; developing, implementing, and delivering farm labor housing technical assistance programs; and managing Federal technical assistance grants throughout their lifecycle. In addition, respondents must demonstrate the ability to exercise leadership, organize work, and prioritize assignments to meet work demands in a cost-efficient and timely manner within the 24-month grant term. If the respondent intends to have other entities working on its behalf, those entities must be identified and their abilities to meet the stated eligibility requirements and experience in delivering approved technical assistance services must also be addressed.

(c) Narrative. The responding entity must include a written narrative describing its knowledge, demonstrated ability, and practical experience in farm labor housing development, Federal grant administration, and technical assistance program development, implementation, and delivery. If the respondent intends to have other entities working on its behalf, those entities must be identified and their abilities to meet the stated eligibility requirements and experience in delivering approved technical assistance services must also be addressed.

To demonstrate overall organizational knowledge, experience, and expertise in farm labor housing development, respondents must identify by property name, type, and location, all FLH projects (both section 514/516 and non-RHS) their organization has successfully developed in the past five (5) years. Please specify developments that continue to operate successfully to meet farm labor housing demand in the communities where they were developed. Respondents may also include a list of any successful, verifiable experience in completing or obtaining funding for other affordable Multifamily Housing projects during the past five years.

To demonstrate overall organizational knowledge, experience, and expertise in developing, implementing, and delivering farm labor housing technical assistance programs, respondents must identify by name and location the organizations and communities to which they have provided farm labor housing technical assistance services, the types of TA services provided to these entities, the sources of the technical assistance funding (including any leveraged funding sources), the number of section 514/516 loan/grant packages developed and submitted for Agency funding consideration on behalf of these entities, and a description of how the respondent's technical assistance services contributed to the development of off-farm labor housing that continues to operate successfully to meet off-farm labor housing demand in the community where it was developed. Include the outcomes/success ratios of all transactions/projects listed above that were initiated within the past five years (e.g., project approved for funding, project currently in development, project completed, etc.).

To demonstrate overall organizational knowledge, experience, and expertise in managing Federal technical assistance grants throughout their lifecycle (including submitting timely requests for reimbursements, meeting reporting requirements, and closing out awards), respondents must identify the total number and type(s) of Federal technical assistance grants their organization has successfully administered within the past five years, including the awarding Federal agencies involved.

(d) Key Personnel and Staffing Plan. Proposals must include the resumes of all personnel who will perform key personnel services of (1) technical assistance delivery and (2) grant administration (CNAs, appraisals, and market surveys are not considered key personnel services). The staffing plan must describe each staff member's ability to perform the proposed activities and/or their experience in successfully managing service delivery of TA grants. The plan must include a staffing chart complete with name, job title, salary, hours, timelines, and descriptions of all proposed employee duties that will achieve the objectives of the grant program. If respondents intend to contract for any key personnel services from outside their organization (not to exceed the 20% limit), the qualifications of all entities acting on behalf of respondents must also be addressed.

(e) Statement of Work/Work Plan. Responding entities must submit a detailed SOW that includes the following requirements:

1. Introduction/overview with a description of the proposed plan to identify and provide advisory services to eligible groups and organizations applying for section 514/516 Off-FLH loans and grants in underserved market areas.

2. The organization's capabilities to execute the proposed plan within the prescribed 24-month grant period.

3. The organization's plan to identify and recruit qualified groups and organizations who lack the knowledge, experience and/or capacity to package and submit section 514/516 applications for Agency funding consideration. The SOW must provide a projected number of section 514 loan and section 516 grant application packages the respondent intends to submit for Agency funding consideration during the 24-month grant period. The SOW should discuss how the respondent's existing FLH knowledge and expertise, in combination with statistical data analysis, were utilized in identifying potential loan/grant applicants and how those findings provided foundational context to their planning efforts. Respondents should also include a discussion of their organizational ability to effectively serve the targeted applicants based on key personnel, established timeframes, and budget projections. Please include the data utilized to support the proposal, all of which must be current, relevant, and verifiable.

4. The organization's plan to identify areas with unmet need and unsatisfied market demand for new Off-FLH project development. In determining the underserved areas to target for FLH TA services, respondents must consider the total number of farmworkers in the area, the number and percentage of farmworkers who are without adequate housing in the area and projected future housing demand in the area. Consultation with major employers of farm laborers and with farmworker organizations in each market area under consideration is strongly encouraged prior to determining which areas to target for services. The SOW should discuss how the respondent's existing FLH knowledge and expertise, in combination with statistical data analysis, were utilized in identifying underserved market areas and how those findings provided foundational context to their planning efforts. Also include a discussion of the respondent's organizational ability to effectively serve the targeted market areas based on key personnel, established timeframes, and budget projections. Respondents should include the data utilized to support their proposals, all of which must be current, relevant, and verifiable.

5. Types of proposed technical assistance and legal and/or financial services that will enable qualified applicants in underserved areas to submit successful section 514/516 applications to the Agency within the prescribed 24-month grant period. Respondents must clearly explain the services to be provided directly by their organization and all services that will be provided by third parties. The responding entity must specify the State(s) and/or geographic regions in which they and any proposed third-party contractors, consultants or subrecipients will offer technical assistance services. Respondents must specify why each applicant and targeted service area needs the proposed technical assistance services.

6. A detailed budget justification that aligns with the key project tasks/activities and a grant funds usage projection that corresponds with a 24-month timeline for service delivery. The grant funds usage projection should illustrate direct and indirect administrative costs in dollars, and as a percentage of the technical assistance services provided (not to exceed 20%).

7. Additional strengths, qualifications, or capabilities not discussed above that may enhance the respondent's capacity to deliver services under this grant.

E. Application Review Information

All application packages will be reviewed to determine eligibility and completeness. All eligible, complete applications will be evaluated and competitively scored using the Application Scoring Criteria outlined below. Points will be awarded only for factors that are well-documented in the application package and, in the opinion of the Agency, meet the objectives outlined in each of the evaluation criteria. References to external websites, publications and/or other information not submitted as part of the application package will not be reviewed. Therefore, full documentation and support of all criteria is encouraged.

The review process designed for this notice will evaluate the degree to which the application sets forth measurable realistic objectives that are consistent with this notice and can be completed within a 24-month grant term consistent with the application and processing guidance established by Agency regulations.

Application Scoring Criteria (Points Can Be Earned in All Sections)

1. Respondent Experience (RHS Section 514/516)

a. Respondent has successful, verifiable experience completing section 514/516 transactions during the past five years. Experience must be demonstrated by submitting a list of past section 514/516 transactions as described in this Notice. To receive points, the respondent must have acted as the developer or technical assistance provider and transactions must have been completed within the past five years or there must be a submitted application currently pending approval and/or closing with the Agency:

• 1-2 completed or pending section 514/516 transactions: 10 points

• 3-5 completed or pending section 514/516 transactions: 20 points

• 6-8 completed or pending section 514/516 transactions: 30 points

• 9 or more completed or pending section 514/516 transactions: 40 points

b. Respondent has successful, verifiable experience providing technical assistance to qualified borrowers in completing section 514/516 transactions. Experience must be demonstrated by submitting a list of past instances providing technical assistance as described in this Notice. Points will be awarded according to the number of qualified borrowers to whom the respondent has provided successful section 514/516 technical assistance during the past five years:

• 1-4 section 514/516 borrowers provided with technical assistance: 10 points

• 5-8 section 514/516 borrowers provided with technical assistance: 20 points

• 9 or more section 514/516 borrowers provided with technical assistance: 30 points

2. Respondent Experience (Other/Non-RHS Affordable Multifamily Housing Programs)

a. Respondent has successful, verifiable experience completing or obtaining funding for non-RHS FLH or other affordable MFH projects during the past five years. Experience must be demonstrated by submitting a list of past project transactions as described in this Notice. To receive points, the respondent must have acted as the developer or technical assistance provider and the projects must have been completed or have (at a minimum) obtained funding approval during the past five years:

• 1-3 non-RHS FLH or MFH transactions completed/obtained funding approval: 5 points

• 4-6 non-RHS FLH or MFH transactions completed/obtained funding approval: 10 points

• 7-9 non-RHS FLH or MFH transactions completed/obtained funding approval: 15 points

• 10 or more non-RHS FLH or MFH housing transactions completed/obtained funding approval: 20 points

b. Respondent has successful, verifiable experience providing technical assistance to non-RHS FLH or MFH borrowers. Experience must be demonstrated by submitting a list of past instances of providing technical assistance as described in this Notice. Points will be awarded according to the number of non-RHS FLH or MFH borrowers to whom the respondent has provided technical assistance in the past five years:

• 1-4 non-RHS FLH or MFH borrowers assisted: 5 points

• 5-8 non-RHS FLH or MFH borrowers assisted: 10 points

• 9 or more non-RHS FLH or MFH borrowers assisted: 15 points

3. Proposed Outcomes

a. Respondent uses technical assistance resources to maximize the number of areas assisted (based on the proposed Statement of Work/Work Plan). Points will be awarded according to the proposed number of areas with unmet need/unsatisfied market demand targeted for services under the TA grant:

• 1-5 proposed market areas: 5 points

• 6-10 proposed market areas: 10 points

• 11 or more proposed market areas: 15 points

b. Respondent uses technical assistance resources to identify and assist qualified section 514/516 applicant groups and organizations (based on the Statement of Work/Work Plan). Points will be awarded according to the proposed number of qualified 514/516 applicant groups/organizations to be served under the grant:

• 1-3 qualified section 514/516 applicants: 5 points

• 4-6 qualified section 514/516 applicants: 10 points

• 7 or more qualified section 514/516 applicants: 15 points

c. Respondent uses technical assistance resources to increase the number of successful section 514/516 applications submitted for Agency funding consideration (based on the Statement of Work/Work Plan). Points will be awarded according to the proposed number of section 514/516 loan/grant application packages to be submitted for Agency funding consideration during the 24-month grant period of performance:

• 1-5 application packages: 5 points

• 6-10 application packages: 10 points

• More than 10 packages: 15 points

4. Grant Administration

a. Respondent uses grant resources to maximize the funding available for direct program delivery to TA recipients. Percentage of grant funds used for direct and indirect administrative costs (not to exceed 20% of total projected costs):

• Total Administrative costs 10% to 20%: 5 points

• Total Administrative Costs Less than 10%: 10 points

b. Respondent has successful, verifiable experience managing service delivery or technical assistance throughout the grant lifecycle during the past five years. Experience must be demonstrated by submitting a list of past instances of managing service delivery or providing technical assistance as described in this Notice. Experience considered for scoring purposes includes submitting timely requests for funding, meeting reporting requirements, and closing out awards. Points will be awarded according to the degree of experience:

• 1-4 grants successfully managed during the past five years: 5 points

• 5 or more grants successfully managed during the past five years: 10 points

5. Off-FLH Program Delivery Goals. All applications meeting the minimum scoring requirement of 50 points may be eligible for up to 15 additional points for proposals that offer TA services to support the Off-FLH program delivery goals outlined in a. and b. below.

a. Geographic coverage (up to 10 points): Respondent proposes to serve geographic areas that are underserved by other technical assistance providers, as identified by the respondent and verified by the Agency.

b. Innovative TA service delivery models (up to 5 points): The agency seeks to test a range of TA delivery models to assess the methods of TA delivery that are most effective to facilitate successful Off-FLH development. Describe any supporting innovative delivery approaches associated with implementation of the outlined key personnel tasks, including contingencies for delivering TA services remotely/virtually in order to avoid service delays and disruptions.

6. Administrator Discretionary Points: Respondents meeting the minimum scoring requirements may be considered for up to 15 discretionary scoring points (5 points for each category) as determined by the Administrator, which advance any or all of the Agency's three key funding priorities, provided that all other requirements set forth in this notice are otherwise met. The three key priorities are:

(i) Market Opportunities (up to 5 points): Priority points may be awarded if the project is located in or serving one of the top 10% of counties or county equivalents based upon county risk score in the United States. Information on whether your project qualifies for priority points can be found at the following website: https://www.rd.usda.gov/priority-points.

(ii) Equity (up to 5 points): Priority points may be awarded if the project is located in or serving a community with score 0.75 or above on the CDC Social Vulnerability Index. Information on whether your project qualifies for priority points can be found at the following website: https://www.rd.usda.gov/priority-points.

(iii) Climate Impacts (up to 5 points): Priority points may be awarded if the project is located in or serving coal, oil and gas, and power plant communities whose economic well-being ranks in the most distressed tier of the Distressed Communities Index. Information on whether your project qualifies for priority points can be found at the following website: https://www.rd.usda.gov/priority-points.

The minimum score requirement for grants awarded under this funding opportunity is 50 points. Final scores are determined by the Agency. The Agency reserves the right to withhold the awarding of funds for applications that fail to meet the minimum required final score. Meeting the minimum scoring requirements and/or receiving priority funding points or discretionary points from the Administrator does not guarantee a funding award.

The Agency will notify all responding entities whether their application has been accepted or rejected and provide appeal rights under 7 CFR part 11, as appropriate.

Joaquin Altoro,
Administrator, Rural Housing Service.

[FR Doc. 2023-09460 Filed 5-3-23; 8:45 am]

BILLING CODE 3410-XV-P